DEPARTMENT OF ENERGY

10 CFR Part 431

RIN 1904-AC62

Efficiency and Renewables Advisory Committee; Notice of Meeting

AGENCY: Department of Energy, Office of Energy Efficiency and Renewable Energy.

ACTION: Notice of open meeting.

SUMMARY: This document announces an open meeting of two Negotiated Rulemaking Working Groups; one concerning Liquid Immersed and Medium-Voltage Dry-Type and the second addressing Low-Voltage Dry-Type Distribution Transformers. The Liquid Immersed and Medium-Voltage Dry-Type Group (MV Group) and the Low-Voltage Dry-Type Group (LV Group) are working groups within the Appliance Standards Subcommittee of the Efficiency and Renewables Advisory Committee (ERAC). The purpose of the MV and LV Groups is to discuss and, if possible, reach consensus on a proposed rule for regulating the energy efficiency of distribution transformers, as authorized by the Energy Policy Conservation Act (EPCA) of 1975, as amended, 42 U.S.C. 6313(a)(6)(C) and 6317(a).

DATES: Wednesday, November 30, 2011; 9 a.m.-5 p.m.

Thursday, December 1, 2011; 9 a.m.-5 p.m.

Friday, December 2, 2011; 9 a.m.-5 p.m.

ADDRESSES: The meetings on November 30, 2011, and December 1, 2011, will be held at the American Public Power Association, 1875 Connecticut Ave. NW., Suite 1200, Washington, DC 20009-5715.

The meeting on December 2, 2011, will be held at the U.S. Department of Energy, 1000 Independence Ave. SW., Washington, DC 20585, Room 8E-089.

FOR FURTHER INFORMATION CONTACT: John Cymbalsky, U.S. Department of Energy, Office of Building Technologies (EE-2J), 1000 Independence Avenue SW., Washington, DC 20585-0121. Telephone: (202) 287-1692 or email: John.Cymbalsky@ee.doe.gov.

SUPPLEMENTARY INFORMATION: Background: DOE has decided to use the negotiated rulemaking process to develop proposed energy efficiency standards for distribution transformers. The primary reasons for using the negotiated rulemaking process for developing a proposed Federal standard is that stakeholders strongly support a consensual rulemaking effort and DOE believes such a regulatory negotiation process will be less adversarial and better suited to resolving the complex technical issues raised by this rulemaking. An important virtue of negotiated rulemaking is that it allows expert dialog that is much better than traditional techniques at getting the facts and issues right and will result in a proposed rule that will effectively reflect Congressional intent.

A regulatory negotiation will enable DOE to engage in direct and sustained dialog with informed, interested, and affected parties when drafting the proposed regulation that is then presented to the public for comment. Gaining this early understanding of all parties' perspectives allows DOE to address key issues at an earlier stage of the process, thereby allowing more time for an iterative process to resolve issues. A rule drafted by negotiation with informed and affected parties is more likely to maximize benefits while minimizing unnecessary costs than one conceived or drafted without the opportunity for sustained dialog among interested and expert parties. DOE anticipates that there will be a need for fewer substantive changes to a proposed rule developed under a regulatory negotiation process prior to the publication of a final rule.

To the maximum extent possible, consistent with the legal obligations of the Department, DOE will use the consensus of the advisory committee or subcommittee as the basis for the rule the Department proposes for public notice and comment.

Purpose of the Meeting: To continue the process of seeking consensus on a proposed rule for setting standards for the energy efficiency of liquid immersed and medium- and low-voltage dry type distribution transformers, as authorized by the Energy Policy Conservation Act (EPCA) of 1975, as amended, 42 U.S.C. 6313(a)(6)(C) and 6317(a).

Tentative Agenda: The MV Group will meet at 9 a.m. and will conclude at 5 p.m. on Wednesday, November 30, 2011, and reconvene from 9 a.m. through 12 p.m. on Thursday, December 1, 2011. The LV Group will meet from 1 p.m. through 5 p.m. on Thursday, December 1, 2011, and reconvene from 9 a.m. through 5 p.m. on Friday, December 2, 2011. The tentative agenda for the meetings includes continued discussion regarding the analyses of alternate standard levels and negotiation efforts to address the perceived issues.

Public Participation: Members of the public are welcome to observe the business of the meetings and to make comments related to the issues being discussed at appropriate points, when called on by the moderator. The facilitator will make every effort to hear the views of all interested parties within limits required for the orderly conduct of business. To attend the meeting and/or to make oral statements regarding any of the items on the agenda, email: erac@ee.doe.gov. Please include “MV and LV Work Group 113011” in the subject line of the message. Please be sure to specify which working group discussion you will be attending. In the email, please provide your name, organization, citizenship and contact information. Space is limited.

Participation in the meeting is not a prerequisite for submission of written comments. ERAC invites written comments from all interested parties. If you would like to file a written statement with the committee, you may do so either by submitting a hard or electronic copy before or after the meeting. Electronic copy of written statements should be emailed to: erac@ee.doe.gov.

Minutes: The minutes of the meeting will be available for public review at: http://www.erac.energy.gov.

Issued in Washington, DC on November 3, 2011.
LaTanya R. Butler,
Acting Deputy Committee Management Officer.

[FR Doc. 2011-29139 Filed 11-10-11; 8:45 am]

BILLING CODE 6450-01-P